CONSUMER PRODUCT SAFETY COMMISSION

Sunshine Act Meeting; Cancellation

AGENCY: U.S. Consumer Product Safety Commission.

FEDERAL REGISTER CITATION OF PREVIOUS ANNOUNCEMENT: Vol. 78, No. 162, Wednesday, August 21, 2013, page 51713.

ANNOUNCED TIME AND DATE OF MEETING: Wednesday, August 21, 2013, 10 a.m.-11 a.m.

MEETING CANCELED. For a recorded message containing the latest agenda information, call (301) 504-7948.

CONTACT PERSON FOR ADDITIONAL INFORMATION: Todd A. Stevenson, Office of the Secretary, 4330 East West Highway, Bethesda, MD 20814 (301) 504-7923.

Dated: August 21, 2013.
Todd A. Stevenson,
Secretary.

[FR Doc. 2013-20693 Filed 8-21-13; 11:15 am]

BILLING CODE 6355-01-P